DEPARTMENT OF TRANSPORTATION

National Highway Traffic Safety Administration

[Docket No. NHTSA-2021-0060]

NHTSA Safety Research Portfolio Public Meeting: Fall 2021

AGENCY: National Highway Traffic Safety Administration (NHTSA), U.S. Department of Transportation (DOT).

ACTION: Announcement of public meeting.

SUMMARY: NHTSA is announcing its 2021 safety research portfolio public meeting where the agency's Vehicle Safety Research and Behavioral Safety Research offices will present information on activities related to the agency's safety research programs. Representatives from across the research offices will present the information in a virtual panel format. Questions from the audience will be accepted following presentations in a format to be determined.

DATES: NHTSA will host the public meeting on October 19-21, 2021, from 11:00 a.m. to 4:00 p.m., Eastern Standard Time (EST) each day. The meeting will be held virtually. Registration to attend the meeting must be received no later than October 15, 2021. The public docket will remain open for comment for 90 days following the conclusion of the public meeting, until January 19, 2022.

ADDRESSES: The meeting will be held virtually via GoToWebinar. The virtual meeting's online access link and a detailed agenda will be provided upon registration. The meeting will also be recorded and made available after the event for offline viewing at https://www.nhtsa.gov/events/research-public-meeting-2021 listed under the title of the public meeting.

Following the public meeting, you may send comments, identified by Docket No. NHTSA-2021-0060, by any of the following methods:

• Federal Rulemaking Portal: Go to http://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, Washington, DC 20590-0001, between 9 a.m. and 5 p.m. ET, Monday through Friday, except Federal Holidays. To be sure someone is there to help you, please call 202-366-9826 before coming.

• Fax: 202-366-1767.

Instructions: All submissions must include the agency name and docket number. Note that all comments received will be posted without change to http://www.regulations.gov, including any personal information provided. Please see the Privacy Act discussion below.

Docket: For access to the docket go to http://www.regulations.gov at any time or to 1200 New Jersey Avenue SE, West Building, Ground Floor, Room W12-140, Washington, DC 20590 between 9 a.m. and 5 p.m., Monday through Friday, except Federal Holidays. Telephone: 202-366-9826.

FOR FURTHER INFORMATION CONTACT: If you have questions about the public meeting, please contact Lisa Floyd at 202-366-4697, or by email at Lisa.Floyd@dot.gov.

SUPPLEMENTARY INFORMATION: Each year, NHTSA executes a broad array of research programs in support of Administration, DOT, and agency priorities. The agency's research portfolio covers program areas pertaining to vehicle safety including safety countermeasures implemented through the vehicle, its components, operations and use, accessibility considerations, alternative fuels, among others; and behavioral safety including safety countermeasures that pertain to the behavior and actions of drivers, occupants, and other road users, including vulnerable populations.

NHTSA holds Safety Research Portfolio public meetings to provide public outreach regarding research activities at NHTSA for both vehicle and behavioral safety, including expected near-term deliverables, and solicit stakeholder questions and input. NHTSA's Safety Research Portfolio meetings are historically held in-person. The agency's most recent Safety Research Portfolio public meeting was held on November 20-21, 2019. These meetings draw large numbers of attendees among automotive safety stakeholder groups, including international audience members. Due to the continued and varied global effects of the COVID-19 public health emergency, in an abundance of caution, this year's meeting will be conducted virtually.

NHTSA technical research staff will discuss projects underway and allow time for meeting attendees to ask questions. Given the virtual nature of the event, all presented information will be available for download. Updates on this event will be available at https://www.nhtsa.gov/events/research-public-meeting-2021 listed under the title of the public meeting.

Discussion of research projects will occur in the form of technical panel presentations, with the following topics planned:

• Day 1, October 19 (11 a.m. to 4 p.m. EST), Crash avoidance research panels including advanced driver assistance systems, human factors, Automated Driving Systems (ADS), and vehicle cybersecurity.

• Day 2: October 20 (11 a.m. to 4 p.m. EST), Behavioral safety panels presenting on speeding/speed management and risky driving behaviors followed by panels on vulnerable road user research and alternative fuels.

• Day 3: October 21 (11 a.m. to 4 p.m. EST), Crashworthiness research panels presenting on female crash safety, ADS crash safety, advanced crash test dummies, and occupant protection.

The agency invites comments on the information presented regarding research priorities, research goals, and additional research gaps/needs the public may believe NHTSA should be addressing. Select project work may be posted to the docket for which comments are also welcome. Slides presented at the public meeting will be posted to the docket subsequently for public viewing and a recording of the meeting will be made available after the event for offline viewing.

Public Participation

Registration is required for all attendees. There is no cost to register. Attendees should register at https://www.nhtsa.gov/events/research-public-meeting-2021 by October 15, 2021. Please provide name, affiliation, email, and indicate whether you need an accommodation.

NHTSA is committed to providing equal access to this meeting for all participants. Persons with disabilities in need of an accommodation should contact Lisa Floyd at 202-366-4697, or via email at Lisa.Floyd@dot.gov, with your request as soon as possible. A sign language interpreter will be provided, and closed captioning services will be available for this meeting through the GoToWebinar's platform.

Should it become necessary to cancel or reschedule the meeting due to an unforeseen circumstance, NHTSA will take all available measures to notify registered participants as soon as possible. NHTSA will conduct the public meeting informally, and technical rules of evidence will not apply. The meeting will be recorded, and a recording will be made available after the event.

Comments: Comments may be submitted electronically or in hard copy during the 90-day comment period. Please submit all comments no later than January 22, 2022, following the close of the public meeting by any of the following methods:

Privacy Act: Anyone is able to search the electronic form of all comments received into any of our dockets by the name of the individual submitting the comment (or signing the comment, if submitted on behalf of an association, business, labor union, etc.). You may review DOT's complete Privacy Act Statement in the Federal Register published on April 11, 2000, (Volume 65, Number 70; Pages 19477-78), or you may visit http://www.regulations.gov/privacy.html.

Confidential Business Information: If you wish to submit any information under a claim of confidentiality, you should submit three copies of your complete submission, including the information you claim to be confidential business information to the Chief Counsel, NHTSA, at 1200 New Jersey Avenue SE, Washington, DC 20590. In addition, you should submit two copies, from which you have deleted the claimed confidential business information, to Docket Management at the address given above. When you send a comment containing information claimed to be confidential business information, you should submit a cover letter setting forth the information specified in our confidential business information regulation (49 CFR part 512). To facilitate social distancing during COVID-19, NHTSA is temporarily accepting confidential business information electronically. Please see https://www.nhtsa.gov/coronavirus/submission-confidential-business-information for details.

Authority: 49 U.S.C. 30181-30182; delegation of authority at 49 CFR 1.95.

Issued in Washington, DC.
Cem Hatipoglu,
Associate Administrator for Vehicle Safety Research.

[FR Doc. 2021-19577 Filed 9-9-21; 8:45 am]

BILLING CODE 4910-59-P